DEPARTMENT OF HEALTH AND HUMAN SERVICES

Health Resources and Services Administration

Statement of Organization, Functions and Delegations of Authority

This notice amends Part R of the Statement of Organization, Functions and Delegations of Authority of the Department of Health and Human Services (HHS), Health Resources and Services Administration (HRSA) (60 FR 56605, as amended November 6, 1995; as last amended at 78 FR 42089-42090 dated July 15, 2013).

This notice reflects organizational changes in the Health Resources and Services Administration. This notice corrects the administrative codes for the Bureau of Clinician Recruitment and Service (RU); the Division of Regional Operations (RU2) and the Office of Business Operations (RU3).

Chapter RU—Bureau of Clinician Recruitment and Service

Section RU-10, Organization

Delete and replace in its entirety.

The Office of the Associate Administrator (RU) is headed by the Associate Administrator, Bureau of Clinician Recruitment and Service (BCRS), who reports directly to the Administrator, Health Resources and Services Administration. BCRS includes the following components:

(1) Office of the Associate Administrator (RU);

(2) Office of Legal and Compliance (RU1);

(3) Division of Regional Operations (RU2);

(4) Office of Business Operations (RU3);

(5) Division of National Health Service Corps (RU5);

(6) Division of Nursing and Public Health (RU6);

(7) Division of External Affairs (RU7);

(8) Division of Policy and Shortage Designation (RU8); and

(9) Division of Program Operations (RU9).

Section RU-30, Delegations of Authority

All delegations of authority and re-delegations of authority made to HRSA officials that were in effect immediately prior to this reorganization, and that are consistent with this reorganization, shall continue in effect pending further re-delegation.

This reorganization is effective upon date of signature.

Dated: December 26, 2013.
Mary K. Wakefield,
Administrator.

[FR Doc. 2014-00221 Filed 1-9-14; 8:45 am]

BILLING CODE 4165-15-P